COMMITTEE FOR PURCHASE FROM PEOPLE WHO ARE BLIND OR SEVERELY DISABLED

Procurement List; Additions and Deletions

AGENCY: Committee for Purchase From People Who Are Blind or Severely Disabled.

ACTION: Additions to and Deletions from Procurement List.

SUMMARY: This action adds to the Procurement List products and services to be furnished by nonprofit agencies employing persons who are blind or have other severe disabilities, and deletes from the Procurement List products and services previously furnished by such agencies.

DATES: Effective Date: March 8, 2010.

ADDRESSES: Committee for Purchase From People Who Are Blind or Severely Disabled, Jefferson Plaza 2, Suite 10800, 1421 Jefferson Davis Highway, Arlington, Virginia, 22202-3259.

FOR FURTHER INFORMATION CONTACT: Barry S. Lineback, Telephone: (703) 603-7740, Fax: (703) 603-0655, or email CMTEFedReg@AbilityOne.gov.

SUPPLEMENTARY INFORMATION:

Additions

On 12/4/2009 (74 FR 63732) and 12/11/2009 (74 FR 65758-65760), the Committee for Purchase From People Who Are Blind or Severely Disabled published notices of proposed additions to the Procurement List.

After consideration of the material presented to it concerning capability of qualified nonprofit agencies to provide the products and services and impact of the additions on the current or most recent contractors, the Committee has determined that the products and services listed below are suitable for procurement by the Federal Government under 41 U.S.C. 46-48c and 41 CFR 51-2.4.

Regulatory Flexibility Act Certification

I certify that the following action will not have a significant impact on a substantial number of small entities. The major factors considered for this certification were:

1. The action will not result in any additional reporting, recordkeeping or other compliance requirements for small entities other than the small organizations that will furnish the products and services to the Government.

2. The action will result in authorizing small entities to furnish the products and services to the Government.

3. There are no known regulatory alternatives which would accomplish the objectives of the Javits-Wagner-O'Day Act (41 U.S.C. 46-48c) in connection with the products and services proposed for addition to the Procurement List.

End of Certification

Accordingly, the following products and services are added to the Procurement List:

Products

NSN: 7220-00-NIB-0382—36″x72″ Finger-tip Mat, Heavy-duty, Black

NSN: 7220-00-NIB-0372—4x6′ Vinyl Loop Scraper Mat, Gray

NSN: 7220-00-NIB-0377—3x5′ Loop-twist Outdoor Scraper Mat, Gray

NSN: 7220-00-NIB-0383—3x5′ Wiper/Scraper Mat, Medium Duty, Recycled PET, Gray

NSN: 7220-00-NIB-0391—3x5′ Indoor Wiper Mat, Recycled PET, Gray

NSN: 7220-00-NIB-0397—2x3′ Ribbed Vinyl Anti-fatigue mat, Gray

NSN: 7220-00-NIB-0399—2x3′ Industrial deck-plate, Anti-fatigue Mat, Black

Coverage: A-List for the total government requirement as aggregated by the General Services Administration

NSN: 7220-00-NIB-0398—3x5′ Ribbed Vinyl Anti-fatigue mat, Gray

NSN: 7220-00-NIB-0400—3x5′ Industrial deck-plate, Anti-fatigue Mat, Black

NSN: 7220-00-NIB-0402—2x3′ Industrial deck-plate, Anti-fatigue Mat, Black

NSN: 7220-00-NIB-0403—3x5′ Industrial deck-plate, Anti-fatigue Mat, Black

NSN: 7220-00-NIB-0411—2x3′ Anti-fatigue Mat, Recycled content, Gray

NSN: 7220-00-NIB-0412—3x5′ Anti-fatigue Mat, Recycled content, Gray

NSN: 7220-00-NIB-0384—4x6′ Wiper/Scraper Mat, Medium Duty, Recycled PET, Gray

NSN: 7220-00-NIB-0378—4x6′ Loop-twist Outdoor Scraper Mat, Gray

NSN: 7220-00-NIB-0392—4x6′ Indoor Wiper Mat, Recycled PET, Gray

NSN: 7220-00-NIB-0369—3x5′ Vinyl Loop Scraper Mat, Black

NSN: 7220-00-NIB-0370—4x6′ Vinyl Loop Scraper Mat, Black

NSN: 7220-00-NIB-0375—24″x32″ Finger-tip Mat, Medium-duty, Black

NSN: 7220-00-NIB-0376—36″x72″ Finger-tip Mat, Medium-duty, Black

NSN: 7220-00-NIB-0381—23″x32″ Finger-tip Mat, Heavy-duty, Black

Coverage: B-List for the broad government requirement as aggregated by the General Services Administration

NPA: Wiscraft Inc.—Wisconsin Enterprises for the Blind, Milwaukee, WI

Contracting Activity: Federal Acquisition Service, GSA/FAS Southwest Supply Center (QSDAC), Fort Worth, TX

Services

Service Type/Locations: Document Destruction Service

NPA: NISH (Prime Contractor)

Contracting Activity: Dept Of The Treasury/Internal Revenue Service, Washington, DC

I.R.S. Offices at the following locations:

2385 CHAMBLEE TUCKER ROAD, CHAMBLEE, GA

J GORDON LOW BLDG: 120 BARNARD ST, SAVANNAH, GA

401 W PEACHTREE ST, ATLANTA, GA

600 EAST FIRST ST, ROME, GA

RICHARD B. RUSSELL FB: 75 SPRING ST, ATLANTA, GA

R. G. STEPHENS JR FB: 355 HANCOCK AVENUE, ATHENS, GA

4800 BUFORD HIGHWAY, CHAMBLEE, GA

NE KOGER: 2888 WOODCOCK BLVD, ATLANTA, GA

SNAPFINGER TECH: 5240 SNAPFINGER PARK DR, DECATUR, GA

2970 BRANDYWINE RD, ATLANTA, GA

2980 BRANDYWINE RD, ATLANTA, GA

ATSC TRAINING: 2965 FLOWERS RD, CHAMBLEE, GA

2400 HERODIAN WAY, SMYRNA, GA

FIRST FEDERAL PLAZA: 777 GLOUCESTER ST, BRUNSWICK, GA

2743 PERIMETER PKWY, AUGUSTA, GA

233 PEACHTREE ST, ATLANTA, GA

6655 PEACHTREE DUNWOODY RD NE, ATLANTA, GA

329 OAK STREET, GAINESVILLE, GA

1008 PROFESSIONAL BLVD., DALTON, GA

6600 BAY CIRCLE, NORCROSS, GA

640 NORTH AVENUE, MACON, GA

33 E. TWOHIG AVE, SAN ANGELO, TX

6801 SANGER AVE, WACO, TX

5219 MCPHERSON RD, LAREDO, TX

601 NW LOOP 410 ACCESS RD, SAN ANTONIO, TX

415 S. FIRST STREET, LUFKIN, TX

216 W. 26TH STREET, BRYAN, TX

3525 NORTHEAST PARKWAY, SAN ANTONIO, TX

8700 TESORO DRIVE, SAN ANTONIO, TX

1205 TEXAS AVE, LUBBOCK, TX

100 N. E. LOOP 410, SAN ANTONIO, TX

NPA (Subcontractor): Austin Task, Inc., Austin, TX

915 LAFAYETTE BLVD, BRIDGEPORT, CT

131 WEST STREET, DANBURY, CT

333 EAST RIVER DRIVE, EAST HARTFORD, CT

COTTER FB: 135 HIGH STREET, HARTFORD, CT

GAIAMO FB: 150 COURT ST., NEW HAVEN, CT

24 BELDEN AVE, NORWALK, CT

14 COTTAGE PLACE, WATERBURY, CT

936 SILAS DEANE HIGHWAY, WETHERSFIELD, CT

NPA (Subcontractor): Easter Seals Greater Hartford Rehabilitation Center, Inc., Windsor, CT

2120 CAPITOL AVE, CHEYENNE, WY

THOMAS P. O'NIELL, JR FB: 10 CAUSEWAY ST, BOSTON, MA

MAIN & EAST ELM ST, BROCKTON, MA

PHILIP J PHILBIN FB: 881 MAIN STREET, FITCHBURG, MA

900 CHELMSFORD STREET, LOWELL, MA

118 TURNPIKE ROAD, SOUTHBOROUGH, MA

120 FRONT STREET, WORCESTER, MA

380 WESTMINSTER ST, PROVIDENCE, RI

60 QUAKER LANE, WARWICK, RI

1250 HANCOCK STREET, QUINCY, MA

NPA (Subcontractor): Cranston Arc, Cranston, RI

29 NORTH WACKER DRIVE, CHICAGO, IL

211 S COURT STREET, ROCKFORD, IL

5100 RIVER RD., SCHILLER PARK, IL

NPA (Subcontractor): Glenkirk, Northbrook, IL

2 SOUTH MAIN STREET, AKRON, OH

201 CLEVELAND AVE SW, CANTON, OH

1240 E NINTH STREET, CLEVELAND, OH

1375 E NINTH STREET, CLEVELAND, OH

208 PERRY ST, DEFIANCE, OH

5990 W CREEK ROAD, INDEPENDENCE, OH

401 WEST NORTH STREET, LIMA, OH

300 BROADWAY, LORAIN, OH

180 N DIAMOND ST, MANSFIELD, OH

8 NORTH STATE STREET, PAINESVILLE, OH

500 MARKET STREET, STEUBENVILLE, OH

433 NORTH SUMMIT ST, TOLEDO, OH

YOUNGSTOWN FB: 10 EAST COMMERCE ST., YOUNGSTOWN, OH

220 SOUTH MAIN STREET, BUTLER, PA

4314 OLD WILLIAM PENN HIGHWAY, MONROEVILLE, PA

1000 LIBERTY AVE., PITTSBURGH, PA

547 KEYSTONE DRIVE, WARRENDALE, PA

162 WEST CHESTNUT STREET, WASHINGTON, PA

NPA (Subcontractor): Weaver Industries, Inc., Akron, OH

505 S. MAIN ST, LAS CRUCES, NM

NPA (Subcontractor): Adelante Development Center, Inc., Albuquerque, NM

625 N. AKERS ST, VISALIA, CA

NPA (Subcontractor): Arc Fresno, Inc., Fresno, CA

3971 RESEARCH PARK DRIVE, ANN ARBOR, MI

22600 HALL ROAD, CLINTON TOWNSHIP, MI

477 MICHIGAN AVE, DETROIT, MI

985 MICHIGAN AVENUE, DETROIT, MI

3100 WEST ROAD, EAST LANSING, MI

38275 WEST TWELVE MILE ROAD, FARMINGTON HILLS, MI

815 S. SAGINAW ST, FLINT, MI

234 LOUIS GLICK HWY, JACKSON, MI

1270 PONTIAC RD, PONTIAC, MI

4901 TOWNE CENTRE RD, SAGINAW, MI

NPA (Subcontractor): The Arc of St. Clair County, Port Huron, MI

300 SOUTH NEW STREET, DOVER, DE

21309 BERLIN ROAD, GEORGETOWN, DE

1352 MARROWS ROAD, NEWARK, DE

844 KING STREET, WILMINGTON, DE

190 ADMIRAL COCHRANE DRIVE, SUITE 170, ANNAPOLIS, MD

31 HOPKINS PLAZA, BALTIMORE, MD

212 WEST MAIN STREET, SALISBURY, MD

NATIONAL OFFICE: 1111 CONSTITUTION AVE NW., WASHINGTON, DC

500 N CAPITOL ST, WASHINGTON, DC

820 FIRST ST., NE, WASHINGTON, DC

1099 14TH STREET NW., WASHINGTON, DC

1099 14TH STREET NW., WASHINGTON, DC

1750 PENNSYLVANIA AVENUE, WASHINGTON, DC

US MINT ANNEX: 799 9TH STREET, WASHINGTON, DC

US MINT: 801 9th STREET, NW., WASHINGTON, DC

201 THOMAS JOHNSON DR, FREDERICK, MD

14701 NATIONAL HWY SW, FROSTBURG, MD

1260 MARYLAND AVENUE, HAGERSTOWN, MD

2345 CRYSTAL DR, STE 400, ARLINGTON, VA

5205 LEESBURG PIKE, BAILEYS CROSSROADS, VA

11166 FAIRFAX BLVD, FAIRFAX, VA

8100 CORPORATE DRIVE, HYATTSVILLE, MD

8401 CORPORATE DRIVE, LANDOVER, MD

5000 ELLIN RD, LANHAM/SEABROOK, MD

6009 OXON HILL, OXON HILL, MD

11510 GEORGIA AVENUE, WHEATON, MD

100 S. CHARLES STREET, BALTIMORE, MD

120 CHARLES STREET, BALTIMORE, MD

NPA (Subcontractor): Athelas Institute, Inc., Columbia, MD

200 W. PROFESSIONAL PARK CT., BOWLING GREEN, KY

225 E. PEACHTREE ST, CORBIN, KY

7940 KENTUCKY DRIVE, FLORENCE, KY

5 SPIRAL DRIVE, FLORENCE, KY

7125 INDUSTRIAL RD, FLORENCE, KY

10 SPIRAL DRIVE, FLORENCE, KY

121 W TENTH STREET, HOPKINSVILLE, KY

1500 LEESTOWN RD, LEXINGTON, KY

LOU MAZZOLI FB: 600 MARTIN LUTHER KING JR. PLACE, LOUISVILLE, KY

1500 ORMSBY STATION COURT, LOUISVILLE, KY

401 FREDERICA STREET, OWENSBORO, KY

2765 WAYNE SULLIVAN DRIVE, PADUCAH, KY

311 NORTH ARNOLD AVENUE, PRESTONSBURG, KY

300 MADISON AVE, FLORENCE, KY

462 SOUTH 4TH STREET, LOUISVILLE, KY

NPA (Subcontractor): Employment Solutions, Inc., Lexington, KY

233 EAST 84TH DRIVE, MERRILLVILLE, IN

ONE MICHIANA SQUARE, SOUTH BEND, IN

777 RIVERVIEW DRIVE, BENTON HARBOR, MI

678 FRONT STREET NW., GRAND RAPIDS, MI

8075 CREEKSIDE DRIVE, PORTAGE, MI

3251 N EVERGREEN DR NE, GRAND RAPIDS, MI

NPA (Subcontractor): Gateway, Berrien Springs, MI

PRINCE KUHIO FB: 300 ALA MOANA BLVD, HONOLULU, HI

2050 MAIN STREET, WAILUKU, HI

NPA (Subcontractor): Goodwill Contract Services of Hawaii, Inc., Honolulu, HI

600 E. HARRISON ST., BROWNSVILLE, TX

555 NORTH CARANCAHUA ST, CORPUS CHRISTI, TX

320 N MAIN ST, MC ALLEN, TX

M L KING JR FB: 312 SOUTH MAIN STREET, VICTORIA, TX

NPA (Subcontractor): Goodwill Industries of South Texas, Inc., Corpus Christi, TX

1901B E CAPITOL DR, APPLETON, WI

440 SECURITY BLVD, GREEN BAY, WI

20 E MILWAUKEE ST. STE 204, JANESVILLE, WI

545 ZOR SHRINE PL, MADISON, WI

515 S. WASHBURN STREET, OSHKOSH, WI

2108 KOHLER MEMORIAL DR., SHEBOYGAN, WI

NPA (Subcontractor): Goodwill Industries of Southeastern Wisconsin, Inc., Milwaukee, WI

611 6TH ST, LOS ANGELES, CA

950 HAMPSHIRE ROAD, THOUSAND OAKS, CA

NPA: Goodwill Industries of Southern California, Los Angeles, CA

520 112TH AVENUE NE, BELLEVUE, WA

3020 RUCKER AVE, EVERETT, WA

402 LEGION WAY SE, OLYMPIA, WA

800 5TH AVE, SEATTLE, WA

1201 PACIFIC AVENUE, TACOMA, WA

NPA (Subcontractor): Northwest Center, Seattle, WA

12 CADILLAC DR., STE 400, BRENTWOOD, TN

5740 UPTAIN RD, CHATTANOOGA, TN

5880 NOLENSVILLE RD, NASHVILLE, TN

701 BROADWAY, NASHVILLE, TN

801 BROADWAY, NASHVILLE, TN

NASHVILLE HQ: 801 BROADWAY, NASHVILLE, TN

NASHVILLE—ANNEX: 801 BROADWAY, NASHVILLE, TN

810 BROADWAY, NASHVILLE, TN

2607 CHARLOTTE AVE—MODULAR 7, NASHVILLE, TN

NPA (Subcontractor): The Orange Grove Center, Inc., Chattanooga, TN

RC WHITE FEDERAL BLDG: 700 E. SAN ANTONIO AVE, EL PASO, TX

300 N. MAIN ST, EL PASO, TX

NPA (Subcontractor): ReadyOne Industries, Inc., El Paso, TX

2017 SOUTH LIBERTY DR, BLOOMINGTON, IN

12900 NORTH MERIDAN STREET, CARMEL, IN

2525 CALIFORNIA STREET, COLUMBUS, IN

7409 EAGLE CREST BLVD, EVANSVILLE, IN

1111 SOUTH PARK DRIVE, GREENWOOD, IN

225 N HIGH STREET, MUNCIE, IN

801 WABASH AVE, TERRE HAUTE, IN

201 E. RUDISILL BLVD, FORT WAYNE, IN

955 MEZZANINE DRIVE, LAFAYETTE, IN

7525 EAST 39TH STREET, INDIANAPOLIS, IN

NPA (Subcontractor): Shares Inc., Shelbyville, IN

301 SOUTH PROSPECT ROAD, BLOOMINGTON, IL

1201 N MITSUBISHI MOTORWAY, BLOOMINGTON, IL

310-312 W. CHURCH ST., CHAMPAIGN, IL

306 W ELDORADO STREET, DECATUR, IL

405 SOUTH BANKER STREET, EFFINGHAM, IL

2066 WINDISH DR, GALESBURG, IL

2415 WEST CORNERSTONE CT, PEORIA, IL

3701 EAST LAKE CENTRE DR., QUINCY, IL

3101 CONSTITUTION DRIVE, SPRINGFIELD, IL

1122 T & C COMMONS, CHESTERFIELD, MO

111 CORPORATE OFFICE DR. #145, EARTH CITY, MO

1222 SPRUCE ST, ST LOUIS, MO

NPA (Subcontractor): United Cerebral Palsy of the Land of Lincoln, Springfield, IL

1115 NORTH MADISON AVE, EL DORADO, AR

4905 OLD GREENWOOD RD., FORT SMITH, AR

190 AVIATION PLAZA SUITE C, HOT SPRINGS, AR

615 S MAIN ST, JONESBORO, AR

700 W CAPITOL AVENUE, LITTLE ROCK, AR

100 EAST 8TH AVE, PINE BLUFF, AR

1401 HUDSON LN STE 134, MONROE, LA

3007 KNIGHT ST, SHREVEPORT, LA

3333 S. NATIONAL AVE, SPRINGFIELD, MO

109 S HIGHLAND AVE, JACKSON, TN

MEMPHIS FB: 167 N MAIN ST, MEMPHIS, TN

22 N FRONT ST, MEMPHIS, TN

500 N STATE LINE AVE, TEXARKANA, AR

655 E MILSAP RD, FAYETTEVILLE, AR

NPA (Subcontractor): United Cerebral Palsy of Central Arkansas, Little Rock, AR

1110 MONTLIMAR DR, MOBILE, AL

235 ROOSEVELT AVE., ALBANY, GA

3604 MACON ROAD, COLUMBUS, GA

VALDOSTA FB: 401 NORTH PATTERSON ST, VALDOSTA, GA

202 WEST ADAMS STREET, DOTHAN, AL

125 W ROMANA STREET, PENSACOLA, FL

880 N. REUS STREET, PENSACOLA, FL

651-F WEST 14TH STREET, PANAMA CITY, FL

NPA (Subcontractor): Wiregrass Rehabilitation Center, Inc., Dothan, AL

2120 CAPITOL AVE, CHEYENNE, WY

NPA (Subcontractor): Bayaud Industries, Inc., Denver, CO

300 COUNTRY CLUB RD, EUGENE, OR

GUS J. SOLOMON CTHSE: 620 SW MAIN ST, PORTLAND, OR

E.GREEN—W.WYATT FB: 1220 SW THIRD AVE, PORTLAND, OR

1660 OAK STREET SE, SALEM, OR

500 W 12TH ST, VANCOUVER, WA

NPA (Subcontractor): Garten Services, Inc., Salem, OR

10715 DAVID TAYLOR DRIVE, CHARLOTTE, NC

3308 CHAPEL HILLS BLVD, DURHAM, NC

320 FEDERAL PLACE, GREENSBORO, NC

2303 W MEADOWVIEW ROAD, GREENSBORO, NC

115 5TH AVENUE, NW., HICKORY, NC

4405 BLAND ROAD, RALEIGH, NC

RALEIGH FB: 310 NEW BERN AVENUE, RALEIGH, NC

251 N MAIN STREET, WINSTON SALEM, NC

151 PATTON AVENUE, ASHEVILLE, NC

225 GREEN ST, FAYETTEVILLE, NC

3340 JAECKLE DRIVE, WILMINGTON, NC

NPA (Subcontractor): OE Enterprises, Inc., Hillsborough, NC

1212 CHARLES STREET, BEAUFORT, SC

1 POSTON ROAD, CHARLESTON, SC

1835 ASSEMBLY STREET, COLUMBIA, SC

440 ROPER MOUNTAIN ROAD, GREENVILLE, SC

601 19TH AVENUE NORTH, MYRTLE BEACH, SC

401 W EVANS ST, FLORENCE, SC

NPA (Subcontractor): Florence County Disabilities and Special Needs Board, Florence, SC

5799 BROADMOOR ST, MISSION, KS

120 SE 6TH STREET, TOPEKA, KS

271 WEST 3RD STREET NORTH, WICHITA, KS

3720 SOUTH ELIZABETH STREET, INDEPENDENCE, MO

6000 E. GEOSPACE DRIVE, INDEPENDENCE, MO

5800 E BANNISTER ROAD, KANSAS CITY, MO

APPEAL SITE: 2345 GRAND AVE, KANSAS CITY, MO

333 WEST PERSHING ROAD, KANSAS CITY, MO

200 SPACE CENTER DRIVE, LEES SUMMIT, MO

NPA (Subcontractor): Independence and Blue Springs Industries, Inc., Independence, MO

211 N DELAWARE AVE, MASON CITY, IA

NPA (Subcontractor): Harrison County Sheltered Workshop Association, Bethany, MO

4825 COFFEE RD, BAKERSFIELD, CA

NPA (Subcontractor): The Bakersfield Association for Retarded Citizens, Inc., Bakersfield, CA

1534 NORTH BRIDGE ST., CHILLICOTHE, OH

JOHN W PECK FB: 550 MAIN STREET, CINCINNATI, OH

36 E SEVENTH STREET, CINCINNATI, OH

312 ELM ST., CINCINNATI, OH

200 W 2ND ST, DAYTON, OH

70 N. PLAINS ROAD, THE PLAINS, OH

9075 CENTRE POINTE DRIVE, WESTCHESTER, OH

710 MAIN ST., ZANESVILLE, OH

200 WEST FOURTH STREET, COVINGTON, KY

333 SCOTT STREET, COVINGTON, KY

COLUMBUS FOB: 200 N HIGH ST, COLUMBUS, OH

401 NORTH FRONT STREET, COLUMBUS, OH

NPA (Subcontractor): Greene, Inc., Xenia, OH

SANTA ANA POD: 801 CIVIC CENTER DRIVE, W., SANTA ANA, CA

NPA (Subcontractor): Landmark Services, Inc., Santa Ana, CA

Deletions

On 11/23/2009 (74 FR 61114-61115) and 11/27/2009 (74 FR 62287), the Committee for Purchase From People Who Are Blind or Severely Disabled published notices of proposed deletions from the Procurement List.

After consideration of the relevant matter presented, the Committee has determined that the products and services listed below are no longer suitable for procurement by the Federal Government under 41 U.S.C. 46-48c and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the products and services to the Government.

3. There are no known regulatory alternatives which would accomplish the objectives of the Javits-Wagner-O'Day Act (41 U.S.C. 46-48c) in connection with the products and services deleted from the Procurement List.

End of Certification

Accordingly, the following products and services are deleted from the Procurement List:

Products

NSN: 7530-01-450-5414—Appointment Book Refill, 2008

NSN: 7510-01-450-5407—Calendar Pad, Type I, 2008

NSN: 7510-01-450-5425—Calendar Pad, Type II, 2008

NPA: The Easter Seal Society of Western Pennsylvania, Pittsburgh, PA

Contracting Activity: GSA/FSS OFC SUP CTR—PAPER PRODUCTS, NEW YORK, NY

Services

Service Type/Location: Food Service Attendant, Rickenbacker Reserve, Redtail Building Reserve Base, 7370 Minuteman Way, Columbus, OH.

NPA: Goodwill Columbus Outsource Solutions, Columbus, OH

Contracting Activity: DEPT OF THE ARMY, XRAW7NU USPFO ACTIVITY OH ARNG, COLUMBUS, OH

Service Type/Location: Janitorial/Custodial, TSA Office Space: Norfolk International Airport, 2200 Norview Avenue, Norfolk, VA.

NPA: Portco, Inc., Portsmouth, VA

Contracting Activity: GSA/PBS/R03, RICHMOND, VA

Service Type/Location: Declassification/Demilitarization of Hardware, Robins Air Force Base, GA.

NPA: Epilepsy Association of Georgia, Warner Robins, GA

Contracting Activity: DEPT OF THE AIR FORCE, FA8501 WR ALC PKO, ROBINS AFB, GA

Service Type/Location: Tape Cleaning, Robins Air Force Base, GA.

NPA: Epilepsy Association of Georgia, Warner Robins, GA

Contracting Activity: DEPT OF THE AIR FORCE, FA8501 WR ALC PKO, ROBINS AFB, GA

Service Type/Location: Parts Sorting, Defense Reutilization and Marketing Office, Robins AFB, GA.

NPA: Epilepsy Association of Georgia, Warner Robins, GA

Contracting Activity: DEFENSE LOGISTICS AGENCY, DLA SUPPORT SERVICES—DSS, FORT BELVOIR, VA

Service Type/Location: Janitorial/Custodial, USDA, Building 255E, Sanford Airport, Sanford, FL.

NPA: SMA Behavioral Health Services, Inc., Daytona Beach, FL

Contracting Activity: DEPT OR AGRICULTURE, ANIMAL AND PLANT HEALTH INSPECTION SERVICE, MINNEAPOLIS, MN

Service Type/Location: Food Service Attendant, Fort McPherson, Building 61, Consolidated Enlisted Dining Facility, Fort McPherson, GA.

NPA: Bobby Dodd Institute, Inc., Atlanta, GA

Contracting Activity: DEPT OF THE ARMY, XR W40M NATL REGION CONTRACT OFC, WASHINGTON, DC

Service Type/Location: Janitorial/Mechanical Maintenance, U.S. Federal Building and Post Office, 200 East Washington Street, Greenwood, MS.

NPA: AbilityWorks, Inc. of Greenwood, Greenwood, MS

Contracting Activity: GSA, Public Buildings Service/Property Management Contracts, Atlanta, GA

Barry S. Lineback,
Director, Business Operations.

[FR Doc. 2010-2506 Filed 2-4-10; 8:45 am]

BILLING CODE 6353-01-P